Title 3—

The President

Memorandum of July 30, 2005

Assignment of Functions Relating to Certain Funding for

Unanticipated Needs

Memorandum for the Director of the Office of Management and Budget

By virtue of the authority vested in me by the Constitution and the laws of the United States, including section 301 of title 3, United States Code, the functions of the President with respect to appropriations made under the heading ``Unanticipated Needs'' in the Military Construction Appropriations and Emergency Hurricane Supplemental Appropriations Act, 2005 (Public Law 108-324) are assigned to the Director of the Office of Management and Budget and the Director shall administer such funds as provided under that heading.

You are authorized and directed to publish this memorandum in the Federal Register.

B

THE WHITE HOUSE,

Washington, July 30, 2005.

[FR Doc. 05-15873

Filed 8-10-05; 8:45 am]

Billing code 3110-01-P